DEPARTMENT OF HOMELAND SECURITY

Coast Guard

33 CFR Part 165

[Docket No. USCG-2024-0105]

Safety Zones in Reentry Sites; Jacksonville, Florida

AGENCY: Coast Guard, DHS.

ACTION: Notification of enforcement of regulation.

SUMMARY: The Coast Guard is activating three safety zones for the AXIOM-3 Commercial Crew mission reentry, vehicle splashdown, and recovery operations. These operations will occur in the U.S. Exclusive Economic Zone (EEZ). Our regulation for safety zones in reentry sites within the Seventh Coast Guard District identifies the regulated areas for this event. No U.S.-flagged vessel may enter the safety zones unless authorized by the Captain of the Port Savannah or a designated representative. Foreign-flagged vessels are encouraged to remain outside the safety zones.

DATES: The regulations in 33 CFR 165.T07-0806 will be enforced for the safety zones identified in the SUPPLEMENTARY INFORMATION section below for the dates and times specified.

FOR FURTHER INFORMATION CONTACT: If you have questions about this notification of enforcement, call or email Lieutenant Junior Grade Anthony Harris, Marine Safety Unit Savannah, Waterways Division, U.S. Coast Guard; telephone 912-210-8714, email: Anthony.E.Harris@uscg.mil.

SUPPLEMENTARY INFORMATION: With this document, the Coast Guard Captain of the Port (COTP) Savannah is activating a portion of the safety zone as listed in 33 CFR 165.T07-0806(a)(1), and the safety zones listed in (a)(2) and (a)(3) on February 2, 2024 through February 10, 2024, for the AXIOM-3 Commercial Crew mission reentry vehicle splashdown, and the associated recovery operations in the U.S. EEZ. These safety zones are located within the COTP Savannah Area of Responsibility (AOR) offshore of Jacksonville, Florida. The Coast Guard is activating these safety zones in order to protect vessels and waterway users from the potential hazards created by reentry vehicle splashdowns and recovery operations. In accordance with the general regulations in 33 CFR part 165, subpart C, no U.S.-flagged vessel may enter the safety zones unless authorized by the COTP Savannah or a designated representative except as provided in § 165.T07-0806(d)(3). All foreign-flagged vessels are encouraged to remain outside the safety zones.

There are two other safety zones listed in § 165.T07-0806(a)(2) through (a)(5), which are located within the COTP St. Petersburg and Jacksonville AORs, that are being simultaneously activated through separate notifications of enforcement of the regulation document issued under Docket Numbers USCG-2024-106, and USCG-2024-0085.¹

¹ These notifications of enforcement of the regulation can be found at: https://regulations.gov by searching for docket number USCG-2024-0106, and USCG-2024-0085.

Twenty-four hours prior to the Axiom-3 recovery operations, the COTP Jacksonville, the COTP Savannah, the COTP St. Petersburg, or designated representative will inform the public that whether any of the five safety zones described in § 165.T07-0806, paragraph (a), will remain activated (subject to enforcement). If one of the safety zones described in § 165.T07-0806, paragraph (a), remains activated it will be enforced for four hours prior to the Axiom-3 splashdown and remain activated until announced by Broadcast Notice to Mariners on VHF-FM channel 16, and/or Marine Safety Information Bulletin (as appropriate) that the safety zone is no longer subject to enforcement. After the Axiom-3 reentry vehicle splashdown, the COTP or a designated representative will grant general permission to come no closer than 3 nautical miles of any reentry vehicle or space support vessel engaged in the recovery operations, within the activated safety zone described in § 165.T07-0806, paragraph (a). Once the reentry vehicle, and any personnel involved in reentry service, are removed from the water and secured onboard a space support vessel, the COTP or designated representative will issue a Broadcast Notice to Mariners on VHF-FM channel 16 announcing the activated safety zone is no longer subject to enforcement. The recovery operations are expected to last approximately one hour.

The Coast Guard may be assisted by other Federal, State, or local law enforcement agencies in enforcing this regulation.

Dated: February 1, 2024.
Nathaniel L. Robinson,
Commander, U.S. Coast Guard, Captain of the Port Savannah.

[FR Doc. 2024-02404 Filed 2-6-24; 8:45 am]

BILLING CODE 9110-04-P